DEPARTMENT OF THE INTERIOR

Bureau of Indian Affairs

Submission of Information Collection to OMB for Renewal

AGENCY: Bureau of Indian Affairs, Interior.

ACTION: Notice.

SUMMARY: In compliance with the Paperwork Reduction Act of 1995, the Bureau of Indian Affairs is submitting the following collection of information to the Office of Management and Budget (OMB) Office of Information and Regulatory Affairs for approval and renewal: Law and Order on Indian Reservations, which concerns marriage and dissolution of a marriage in a Court of Indian Offenses, OMB Control No. 1076-0094.

DATES: Written comments must be submitted by September 29, 2008.

ADDRESSES: Written comments to the Desk Officer for the Department of the Interior are to be e-mailed to OIRA_DOCKET@omb.eop.gov, or by telefacsimile to (202) 395-6566. Please send a copy to Joseph Little, Division of Tribal Justice Support, Bureau of Indian Affairs, 1001 Indian School Road, NW., Suite 251, Albuquerque, NM 87104.

FOR FURTHER INFORMATION CONTACT: Joseph Little, Bureau of Indian Affairs at (505) 563-3833.

SUPPLEMENTARY INFORMATION: On April 9, 2008, a notice of proposed renewal of OMB Control No. 1076-0094 was published in the Federal Register (73 FR 19240), which requested any comments. No comments were received.

I. Abstract

The Bureau of Indian Affairs must collect personal information to carry out the requirements of 25 CFR 11.600(c)—Marriage, and 25 CFR 11.606(c)—Dissolution of Marriage, in order for a Court of Indian Offenses to issue a marriage license or dissolve a marriage. The information is collected at the initiation of an applicant and requests only basic information necessary for the Court of Indian Offenses to properly dispose of the matter.

II. Method of Collection

Basic information is requested of applicants for the issuance of a marriage license or for the dissolution of a marriage by a Court of Indian Offenses under 25 CFR part 11. Information is collected by the Clerk of the Court of Indian Offenses so that the functions under 25 CFR 11.600(c), and 11.606(c) may be carried out.

III. Information Collected

Courts of Indian Offenses have been established on certain Indian reservations under the authority vested in the Secretary of the Interior by 5 U.S.C. 301 and 25 U.S.C. 2 and 9; and 25 U.S.C. 13, which authorize appropriations for “Indian judges.” See Tillett v. Hodel, 730 F.Supp. 381 (W.D. Okla. 1990), aff'd 931 F.2d 636 (10th Cir. 1991) United States v. Clapox, 13 Sawy. 349, 35 F. 575 (D.Ore. 1888). The courts provide adequate machinery for the administration of justice for Indian tribes in those areas where tribes retain jurisdiction over Indians and is exclusive of State jurisdiction but where tribal courts have not been established to exercise that jurisdiction. Accordingly, Courts of Indian Offenses exercise jurisdiction under 25 CFR part 11. Domestic Relations are governed by 25 CFR 11.600, which authorizes the Court of Indian Offenses to conduct marriages and dissolve marriages. In order to be married in a Court of Indian Offenses, a marriage license must be obtained (25 CFR 11.601). To comply with this requirement an applicant must respond to the following six questions found at 25 CFR 11.600(c):

(1) Name, sex, occupation, address, Social Security number, and date and place of birth of each party to the proposed marriage;

(2) If either party was previously married, his or her name, and the date, place, and court in which the marriage was dissolved or declared invalid or the date and place of death of the former spouse;

(3) Name and address of the parents or guardian of each party;

(4) Whether the parties are related to each other and, if so, their relationship;

(5) The name and date of birth of any child of which both parties are parents, born before the making of the application, unless their parental rights and the parent and child relationship with respect to the child have been terminated; and

(6) A certificate of the results of any medical examination required by either applicable tribal ordinances, or the laws of the State in which the Indian country under the jurisdiction of the Court of Indian Offenses is located.

For the purposes of § 11.600, the Social Security Number information is requested to confirm identity. Previous marriage information is requested to avoid multiple simultaneous marriages, and to ensure that any pre-existing legal relationships are dissolved. Information on consanguinity is requested to avoid conflict with State or tribal laws against marriages between parties who are related by blood as defined in such laws. Medical examination information may be requested if required under the laws of the State in which the Court of Indian Offenses is located.

To comply with the requirement for dissolution of marriage, an applicant must respond to the following six questions found at 25 CFR 11.606(c):

(1) The age, occupation, and length of residence within the Indian country under the jurisdiction of the court of each party;

(2) The date of the marriage and the place at which it was registered;

(3) That jurisdictional requirements are met and that the marriage is irretrievably broken in that either: (i) The parties have lived separate and apart for a period of more than 180 days next preceding the commencement of the proceeding, or (ii) there is a serious marital discord adversely affecting the attitude of one or both of the parties toward the marriage, and there is no reasonable prospect of reconciliation;

(4) The names, age, and addresses of all living children of the marriage and whether the wife is pregnant;

(5) Any arrangement as to support, custody, and visitation of the children and maintenance of a spouse; and

(6) The relief sought.

For the purposes of § 11.606, Dissolution Proceedings, information on occupation and residency is necessary to establish Court of Indian Offenses jurisdiction. Information on the status of the parties, whether they have lived apart 180 days or if there is serious marital discord warranting dissolution, is necessary for the court to determine if dissolution is appropriate. Information on the children of the marriage, their ages and whether the wife is pregnant is necessary for the court to determine the appropriate level of support that may be required from the non-custodial parent.

OMB Control No.: 1076-0094.

Action: Renewal.

Description of the need for the information and proposed use of the information: The information is submitted in order to obtain or retain a benefit, namely, the issuance of a marriage license or a decree of dissolution of marriage from the Court of Indian Offenses.

Affected entities: Indian applicants that are under the jurisdiction of one of the 24 established Courts of Indian Offenses are entitled to receive the benefit of this action by the Court of Indian Offenses.

Estimated number of respondents: Approximately 260 applications for a marriage license or petition for dissolution of marriage will be filed in the 24 Courts of Indian Offenses annually.

Proposed frequency of responses: On occasion as needed.

Burden: The average burden of submitting a marriage license or petition for dissolution of marriage is 15 minutes per application. The total annual burden is estimated as 65 hours.

Estimated cost: There are no costs to consider.

IV. Request for Comments

The Department of the Interior invites members of the public to submit comments to OMB concerning:

(a) Whether the collection of information is necessary for the proper performance of the functions of the agency, including whether the information will have practical utility;

(b) The accuracy of the agencies' estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.Burden means the total time, effort, or financial resources expended by persons to generate, maintain, retain, or disclose of, or provide information to a Federal agency. This includes the time needed to review instructions; to develop, acquire, install and utilize technology and systems for the purpose of collecting, validating, and verifying information, processing and maintaining information, and disclosing and providing information, to search data sources, to complete and review the collection of information; and to transmit or otherwise disclose the information.

It is our policy to make all comments available to the public for review at 1001 Indian School Road, NW., Albuquerque, NM, during the hours of 8 a.m. to 5 p.m., Monday through Friday except for legal holidays. Please note that all comments received will be available for public review 2 weeks after comment period closes. Before including your address, phone number, e-mail address or other personally identifiable information, be advised that your entire comment—including your personally identifiable information—may be made public at any time. While you may request that we withhold your personally identifiable information, we cannot guarantee that we will be able to do so. We do not consider anonymous comments. All comments from representatives of businesses or organizations will be made public in their entirety. We may withhold comments from review for other reasons.

An agency may not conduct or sponsor, and a person is not required to respond to a collection of information, unless it displays a currently valid Office of Management and Budget control number.

The Office of Management and Budget has 60 days in which to make a decision on whether to renew this information collection. However, they may make a decision after 30 days; therefore, your comments will receive maximum consideration if received within 30 days.

Dated: August 21, 2008.
Sanjeev “Sonny” Bhagowalia,
Chief Information Officer—Indian Affairs.

[FR Doc. E8-19909 Filed 8-27-08; 8:45 am]

BILLING CODE 4310-4J-P